ENVIRONMENTAL PROTECTION AGENCY

[EPA-HQ-OPP-2008-0203; FRL-8366-1]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period January 1, 2008 through March 31, 2008, to control unforeseen pest outbreaks.

FOR FURTHER INFORMATION CONTACT: See each emergency exemption for the name of a contact person. The following information applies to all contact persons: Team Leader, Emergency Response Team, Registration Division (7505P), Office of Pesticide Programs, Environmental Protection Agency, 1200 Pennsylvania Ave., NW., Washington, DC 20460-0001; telephone number: (703) 308-9366.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions listed in this unit. If you have any questions regarding the applicability of this action to a particular entity, consult the person listed at the end of the emergency exemption of interest.

B. How Can I Get Copies of this Document and Other Related Information?

1. Docket. EPA has established a docket for this action under docket identification (ID) number EPA-HQ-OPP-2008-0203. Publicly available docket materials are available either electronically at http://www.regulations.gov, or, if only available in hard copy, at the OPP Regulatory Public Docket in Rm. S-4400, One Potomac Yard (South Bldg.), 2777 S. Crystal Dr., Arlington, VA. The hours of operation of this Docket Facility is open from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency that granted the exemption, the type of exemption, the pesticide authorized and the pests, the crop or use for which authorized, number of acres (if applicable), and the duration of the exemption. EPA also gives the Federal Register citation for the time-limited tolerance, if any.

III. Emergency Exemptions: U.S. States and Territories

Arkansas

State Plant Board

Specific exemption: EPA authorized the use of chlorantraniliprole on rice, seed to control rice water weevil; March 21, 2008 to July 31, 2008. Contact: Marcel Howard.

California

Environmental Protection Agency, Department of Pesticide Regulation

Specific exemption: EPA authorized the use of maneb on walnuts to control bacterial blight (Xanthomonas campestris pv. Juglandis); February 27, 2008 to June 15, 2008. Contact: Libby Pemberton.

EPA authorized the use of tebuconazole on garlic to control garlic rust (Puccinia porri - P. allii); March 5, 2008 to July 3, 2008. Contact: Libby Pemberton.

EPA authorized the use of abamectin on large lima beans to control spider mites; March 6, 2008 to August 31, 2008. Contact: Andrew Ertman.

Quarantine exemption: EPA authorized the use of Environ LpH on hard surfaces, items, and laboratory waste solutions to control prions; March 26, 2008 to March 26, 2011. Contact: Princess Campbell.

Delaware

Department of Agriculture

Specific exemption: EPA authorized the use of thiophanate-methyl on mushroom to control green mold; January 14, 2008 to January 14, 2009. Contact: Andrea Conrath.

Florida

Department of Agriculture and Consumer Services

Specific exemption: EPA authorized the use of thiophanate-methyl on citrus to control postbloom fruit drop and stem-end rot; March 19, 2008 to March 19, 2009. Contact: Andrea Conrath.

Louisiana

Department of Agriculture and Forestry

Specific exemption: EPA authorized the use of chlorantraniliprole on rice, seed to control rice water weevil; February 5, 2008 to July 31, 2008. Contact: Marcel Howard.

EPA authorized the use of etofenprox on water-seeded rice to control rice water weevil (Lissorhoptrus oryzophilus); February 20, 2008 to August 1, 2008. Contact: Libby Pemberton.

Maryland

Department of Agriculture

Specific exemption: EPA authorized the use of thiophanate-methyl on mushroom to control green mold; January 14, 2008 to January 14, 2009. Contact: Andrea Conrath.

Minnesota

Department of Agriculture

Specific exemption: EPA authorized the use of azoxystrobin on wild rice to control stem rot (Nakataea sigmoidea/Sclerotium oryzae); March 10, 2008 to August 31, 2008. Contact: Libby Pemberton.

Mississippi

Department of Agriculture and Commerce

Specific exemption: EPA authorized the use of chlorantraniliprole on rice, seed to control rice water weevil; March 21, 2008 to July 31, 2008. Contact: Marcel Howard.

Crisis: On March 31, 2008, for the use of anthraquinone on corn, field and sweet seed to control blackbird species and grackle. This program ended on May 10, 2008. Contact: Marcel Howard.

Missouri

Department of Agriculture

Specific exemption: EPA authorized the use of chlorantraniliprole on rice, seed to control rice water weevil; March 21, 2008 to July 31, 2008. Contact: Marcel Howard.

Nevada

Department of Agriculture

Specific exemption: EPA authorized the use of bifenazate on timothy to control banks grass mite; March 31, 2008 to September 1, 2008. Contact: Andrea Conrath.

Oklahoma

Department of Agriculture

Crisis: On March 24, 2008, for the use of pendimethalin on Bermuda grass pastures and hayfields to control sand bur spp. This program ended on April 8, 2008. Contact: Stacey Groce.

Oregon

Department of Agriculture

Specific exemption: EPA authorized the use of sulfentrazone on strawberries to control broadleaf weeds; March 15, 2008 to February 28, 2009. Contact: Andrew Ertman.

EPA authorized the use of fenoxaprop-P-ethyl on grasses grown for seed to control annual grass weeds; February 28, 2008 to September 15, 2008. Contact: Andrea Conrath.

Pennsylvania

Department of Agriculture

Specific exemption: EPA authorized the use of thiophanate-methyl on mushroom to control green mold; January 8, 2008 to January 8, 2009. Contact: Andrea Conrath.

Texas

Department of Agriculture

Specific exemption: EPA authorized the use of anthraquinone on corn, field, and sweet, seed to control sandhill crane; February 7, 2008 to July 31, 2008. Contact: Marcel Howard.

EPA authorized the use of chlorantraniliprole on rice, seed to control rice water weevil; February 14, 2008 to July 1, 2008. Contact: Marcel Howard.

Crisis: On February 4, 2008, for the use of pendamethalin on Bermuda grass pastures and hayfields to control sand bur spp. This program is expected to end on May 31, 2008. Contact: Stacey Groce.

Washington

Department of Agriculture

Specific exemption: EPA authorized the use of sulfentrazone on strawberries to control broadleaf weed; February 19, 2008 to February 28, 2009. Contact: Andrew Ertman.

Wisconsin

Department of Agriculture, Trade, and Consumer Protection

Specific exemption: EPA authorized the use of sulfentrazone on strawberries to control broadleaf weeds; June 20, 2008 to December 15, 2008. Contact: Andrew Ertman.

List of Subjects

Environmental protection, Pesticides and pests.

Dated: May 29, 2008.
Lois Rossi,
Director, Registration Division, Office of Pesticide Programs.

[FR Doc. E8-13011 Filed 6-10-08; 8:45 am]

BILLING CODE 6560-50-S